DEPARTMENT OF AGRICULTURE

Animal and Plant Health Inspection Service

[Docket No. APHIS-2018-0061]

Notice of Availability of Proposed Changes to the National Poultry Improvement Plan Program Standards

AGENCY: Animal and Plant Health Inspection Service, USDA.

ACTION: Notice of availability.

SUMMARY: We are advising the public that proposed changes to the National Poultry Improvement Plan Program Standards are available for review and comment.

DATES: We will consider all comments that we receive on or before May 13, 2019.

ADDRESSES: You may submit comments by either of the following methods:

• Federal eRulemaking Portal: Go to http://www.regulations.gov/#!docketDetail;D=APHIS-2018-0061.

• Postal Mail/Commercial Delivery: Send your comment to Docket No. APHIS-2018-0061, Regulatory Analysis and Development, PPD, APHIS, Station 3A-03.8, 4700 River Road Unit 118, Riverdale, MD 20737-1238.

The proposed standards and any comments we receive may be viewed at http://www.regulations.gov/#!docketDetail;D=APHIS-2018-0061 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Denise Heard, DVM, Senior Coordinator, National Poultry Improvement Plan, VS, APHIS, USDA, 1506 Klondike Road, Suite 101, Conyers, GA 30094-5104; (770) 922-3496; email: npip@usda.gov.

SUPPLEMENTARY INFORMATION: The National Poultry Improvement Plan (NPIP), also referred to below as “the Plan,” is a cooperative Federal-State-Industry mechanism for controlling certain poultry diseases. The Plan consists of a variety of programs intended to prevent and control poultry diseases. Participation in all Plan programs is voluntary, but breeding flocks, hatcheries, and dealers must first qualify as “U.S. Pullorum-Typhoid Clean” as a condition for participating in the other Plan programs.

The Plan identifies States, flocks, hatcheries, dealers, and slaughter plants that meet certain disease control standards specified in the Plan's various programs. As a result, customers can buy poultry that has tested clean of certain diseases or that has been produced under disease-prevention conditions.

The regulations in 9 CFR parts 56, 145, 146, and 147 (referred to below as the regulations) contain the provisions of the Plan. The Animal and Plant Health Inspection Service (APHIS) of the U.S. Department of Agriculture (USDA) amends these provisions from time to time to incorporate new scientific information and technologies within the Plan.

In the past, APHIS has updated the regulations once every 2 years, following the Biennial Plan Conference of the NPIP General Conference Committee. The NPIP General Conference Committee advises the Secretary on poultry health and represents cooperating State agencies and poultry industry members. During its meetings and Biennial Conferences, the Committee discusses significant poultry health issues and makes recommendations to improve the NPIP.

However, while changes in diagnostic science, testing technology, and best practices for maintaining sanitation are continual, the rulemaking process can be lengthy. As a result, the regulations have, at times, become outdated. To remedy this problem, we determined that we needed a more flexible process for amending provisions of the Plan. On July 9, 2014, we published in the Federal Register (79 FR 38752-38768, Docket No. APHIS-2011-0101) a final rule ¹ that, among other things, amended the regulations by removing tests and detailed testing procedures, as well as sanitation procedures, from part 147, and making these available in an NPIP Program Standards document. The rule also amended the regulations to provide for the Program Standards document to be updated through the issuance of a notice in the Federal Register followed by a period of public comment. The latter change was intended to enable us to make the NPIP program more effective by allowing Plan provision updates without the need for rulemaking.

¹ To view the final rule and related documents, go to http://www.regulations.gov/#!docketDetail;D=APHIS-2011-0101.

We are advising the public that we have prepared updates to the NPIP Program Standards document. The proposed updates would amend the standards by:

• Adding and amending definitions of H5/H7 low pathogenicity avian influenza (LPAI) (exposed) and H5/H7 LPAI (infected);

• Clarifying and amending the testing protocol for Mycoplasma;

• Allowing use of molecular-based examination procedures to screen for Mycoplasma;

• Removing specific agar gel immunodiffusion Avian Influenza testing procedures with directions to use the current National Veterinary Services Laboratories protocol;

• Amending and clarifying salmonella isolation procedures;

• Updating and clarifying bacteriological examination procedures for cull chicks and poults for salmonella;

• Adding a new salmonella diagnostic test kit;

• Removing outdated testing procedures for the sanitation monitored program;

• Updating and clarifying hatching egg and hatchery sanitation requirements;

• Updating and clarifying flock sanitation procedures;

• Updating and clarifying cleaning and disinfecting procedures;

• Adding new dealer sanitation requirements;

• Updating and clarifying compartmentalization language as well as amending and clarifying audit guidelines and checklists; and

• Adding Newcastle disease virus compartmentalization physical requirements for an egg depot receiving/shipping dock.

After reviewing any comments we receive on the proposed updates, we will publish a second notice in the Federal Register announcing our decision regarding the proposed changes.

Paperwork Reduction Act

In accordance with section 3507(d) of the Paperwork Reduction Act of 1995 (44 U.S.C. 3501 et seq.), the information collection requirements included in this notice will be approved by the Office of Management and Budget (OMB) under OMB control number 0579-0007.

E-Government Act Compliance

The Animal and Plant Health Inspection Service is committed to compliance with the E-Government Act to promote the use of the internet and other information technologies, to provide increased opportunities for citizen access to Government information and services, and for other purposes. For information pertinent to E-Government Act compliance related to this notice, please contact Ms. Kimberly Hardy, APHIS' Information Collection Coordinator, at (301) 851-2483.

Authority: 7 U.S.C. 8301-8317; 7 CFR 2.22, 2.80, and 371.4.

Done in Washington, DC, this 5th day of April 2019.
Kevin Shea,
Administrator, Animal and Plant Health Inspection Service.

[FR Doc. 2019-07214 Filed 4-10-19; 8:45 am]

BILLING CODE 3410-34-P